DEPARTMENT OF THE TREASURY

Internal Revenue Service

Proposed Collection; Comment Request for Notice 2008-113; Correction

AGENCY: Internal Revenue Service (IRS), Treasury.

ACTION: Correction to notice and request for comments.

SUMMARY: This document describes corrections to a notice and request for comments that was published in the Federal Register on Monday, March 7, 2011 at 76 FR 12415 inviting the general public and other Federal Agencies to take this opportunity to comment on proposed and/or continuing information collections, as required by the Paperwork Reduction Act of 1995, Public Law 104-13 (44 U.S.C. 3506(c)(2)(A)).

FOR FURTHER INFORMATION CONTACT: Requests for additional information or copies of the forms and instructions should be directed to Ralph Terry at (202) 622-8144, or at Internal Revenue Service, room 6129, 1111 Constitution Avenue, NW., Washington, DC 20224, or through the Internet, at Ralph.M.Terry@irs.gov.

SUPPLEMENTARY INFORMATION:

Background

The notice and request for comments that is the subject of this correction is required by the Paperwork Reduction Act of 1995, Public Law 104-13 (44 U.S.C. 3506(c)(2)(A)).

Need for Correction

As published, the notice and request for comments for Proposed Collection; Comment Request for Notice 2008-113 contains errors that may prove to be misleading and are in need of clarification.

Correction of Publication

Accordingly, the publication of the notice and request for comments for Proposed Collection; Comment Request for Notice 2008-113, which was the subject of FR Doc. 2011- 4996, is corrected as follows:

1. On page 12415, column 1, in the document heading, the language “Proposed Collection; Comment Request for Notice 2007-100” is corrected to read “Proposed Collection; Comment Request for Notice 2008-113”.

2. On page 12415, column 1, under the caption SUMMARY:, line 13, the language “2007-100, Transition Relief and” is corrected to read “2008-113, Transition Relief and”.

3. On page 12415, column 1, under the caption DATES:, line 2, the language “received on or before April 8, 2008 to” is corrected to read “received on or before May 6, 2011 to”.

4. On page 12415, column 1, under the caption SUPPLEMENTARY INFORMATION:, line 7, the language “Notice Number: Notice 2007-100.” is corrected to read “Notice Number: Notice 2008-113.”.

LaNita Van Dyke,
Chief, Publications and Regulations Branch, Legal Processing Division, Associate Chief Counsel (Procedure and Administration).

[FR Doc. 2011-7552 Filed 3-30-11; 8:45 am]

BILLING CODE 4830-01-P